CONSUMER PRODUCT SAFETY COMMISSION

Sunshine Act Meeting Notice

TIME AND DATE: Thursday, February 2, 2012, 9 a.m.-12 p.m.

PLACE: Room 420, Bethesda Towers, 4330 East West Highway, Bethesda, Maryland.

STATUS: Commission Meeting—Open to the Public.

Matters To Be Considered: 1. Decisional Matter: Infant Swings—Notice of Proposed Rulemaking.

2. Briefing Matter: ASTM F'963 '11.

A live webcast of the Meeting can be viewed at www.cpsc.gov/webcast.

TIME AND DATE: Thursday, February 2, 2012; 2 p.m.-3 p.m.

PLACE: Hearing Room 420, Bethesda Towers, 4330 East West Highway, Bethesda, Maryland.

STATUS: Closed to the Public.

Matter To Be Considered: Compliance Status Report

The Commission staff will brief the Commission on the status of compliance matters.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: January 24, 2012.
Todd A. Stevenson,
Secretary.

[FR Doc. 2012-1847 Filed 1-24-12; 4:15 p.m.]

BILLING CODE 6355-01-P